DEPARTMENT OF LABOR

Employment and Training Administration

[TA-W-52,776]

Biddle Precision Components, Sheridan, IN; Notice of Termination of Investigation

Pursuant to Section 221 of the Trade Act of 1974, as amended, an investigation was initiated on September 8, 2003 in response to a petition filed on behalf of workers of Biddle Precision Components, Sheridan, Indiana.

The petitioner has requested that the petition be withdrawn. Consequently, the investigation has been terminated.

Signed at Washington, DC, this 3rd day of October 2003.
Richard Church,
Certifying Officer, Division of Trade Adjustment Assistance.

[FR Doc. 03-29683 Filed 11-26-03; 8:45 am]

BILLING CODE 4510-30-P